DEPARTMENT OF DEFENSE

Department of the Army

Final Environmental Impact Statement To Fully Integrate the Overhills Property Into the Fort Bragg Training Program, Fort Bragg, NC

AGENCY: Department of the Army, DOD.

ACTION: Notice of availability.

SUMMARY: The Department of the Army announces the availability of the Final Environmental Impact Statement (FEIS) to full integrate the Overhills property into the Fort Bragg Training Program, Fort Bragg, Cumberland and Harnett Counties, NC. Presently, realistic training in Fort Bragg's Northern Training Area (NTA), one of Fort Bragg's largest training areas, is hampered by the two sets of training rules that govern training in the units. Though no physical barriers separate the Overhills training units, NTA V-VIII, from NTA units I-IV, the Overhills Standard Operating Procedures (SOP) limits the number of personnel and types of activities during training exercises, effectively creating a training barrier. Applying the same training regulation to the Overhills that governs training on the rest of the installation would allow Fort Bragg to full incorporate the Overhills into the installation's training program, and maximize training possibilities throughout the NTA.

DATES: Written comments on the FEIS must be received no later than 30 days after publication of the notice of availability (NOA) in the Federal Register by the U.S. Environmental Protection Agency to be considered in preparation of the Record of Decision.

ADDRESSES: Please direct written comments or requests for copies of the FEIS to David A. Heins, Chief, Environmental Sustainment Division, Public Works Business Center, ATTN: AFZA-PW-E, Fort Bragg, NC 28310, or e-mail to david.a.heins@us.army.mil.

FOR FURTHER INFORMATION CONTACT: David A. Heins, (910) 396-8207 or e-mail david.a.heins@us.army.mil.

SUPPLEMENTARY INFORMATION: Fort Bragg serves as headquarters for the XVIII Airborne Corps and Army Special Operations Command, and is home to the 82nd Airborne Division. The primary mission of Fort Bragg is the training and deployment of military units. Fort Bragg supports the most intensive and varied training program in the continental United States. An average of 2.5 million personnel days of training is conducted at Fort Bragg and Camp Mackall (a sub-installation to Fort Bragg) each year. Training to sustain readiness is Fort Bragg's primary activity.

Land upon which to train personnel is vital to Fort Bragg's mission. In 1995, Fort Bragg directed a study that identified a shortfall of maneuver land of 81,876 acres, and a weapons range and impact area shortfall of 43,636 acres. In order to reduce this training land deficit, the Department of the Army purchased the Overhills property from the Rockefeller family in 1997.

The Overhills property comprises 10,580 acres in Cumberland and Harnett Counties, NC, and adjoins the northern boundaries of Fort Bragg and Pope Air Force Base. An Environmental Assessment was prepared in 1999 to adopt an Interim Training Program (ITP) on the Overhills tract. Under the ITP, training was restricted to company-level, low impact (limited) military training.

Presently, the maneuver/training areas at Fort Bragg are so heavily utilized that the land to support training needs to be used to its fullest extent. These factors, in conjunction with the training land deficit identified by Fort Bragg, demonstrate the need to make maximum use of available training lands on Fort Bragg. Fully incorporating the Overhills tract, which represents the eastern part of the NTA and comprises almost half of the training area, into the installation's training program would enhance training throughout the NTA, and help sustain environmental resources in other training areas on Fort Bragg.

The Army proposes to fully integrate the Overhills into Fort Bragg's training program. The FEIS analyzes the No Action/Status Quo alternative as well as three action alternatives. Alternatives considered in detail in the FEIS are:

Alternative 1. (No Action)—Continue limited training, existing recreation, and preservation of the Overhills Historic District (the District). Fort Bragg would conduct this training in accordance with existing Fort Bragg Standing Operating Procedure (SOP) for training on the Overhills. This SOP limits training exercises to company-sized units (approximately 250 personnel, including exercise support personnel) and prescribes the procedures for use of the Overhills for training. Company-size exercises generally require fewer than 75 vehicles per exercise. Exercises would be scheduled 4-6 times per month. The following types of exercises are permitted under the Overhills SOP:

Dismounted movement; Air mobile insertions; Firing of blank small arms ammunition (up to .50 caliber) and simulators; Movement of wheeled vehicles on maintained roads and trails; Fixed activities limited to bivouac, signal, or medical in existing clearings; Military operations on urbanized terrain training in buildings, but only on non-contributing elements within the District and non-eligible resources outside the District; hasty hand-dug personnel fighting positions; Use of flame-producing munitions of any type. Hunting and fishing would continue to be allowed subject to restrictions imposed on public access by military training schedules.

The District would be preserved in accordance with the “Standards for Preservation” in the Secretary of Interior's Standards for the Treatment of Historic Properties (38 CFR Part 68). Training in buildings considered contributing elements would not be permitted, but maneuvers in open areas within the historic district boundary would continue.

Alternative 2. Limited training, additional recreation, and adaptive reuse and/or layaway of selected contributing elements within the District. Training units would be limited to company-size (250 personnel plus support personnel), but training would be conducted in accordance with the Installation Range Regulation (IRR), not the Overhills SOP. The following additional training would be permitted:

Ground and air maneuvers involving both mechanized and light infantry with attached combat support and combat service support; Operation of wheeled and tracked vehicles off road; River crossing, bridging, and waterborne operations (including water drops); Construction of fortifications and obstacles; Helicopter landing zones; Excavations (in addition to hand-dug positions) for survivability emplacements, such as vehicle fighting positions; and use of tear gas and obscurant smoke.

A youth golf program and a horse stables program would be added to the recreational programs at Fort Bragg. These programs would utilize several of the historic buildings and structures on Overhills such as the Donald Ross golf course, the polo barn, and riding stables. New facilities would also be constructed. Hunting and fishing would continue as discussed under Alternative 1.

This alternative would maintain the historic integrity of 15 of the 56 contributing elements of the historic district. The remaining buildings and structures would be incorporated into the Fort Bragg training program after mitigating for the loss of historical integrity by fulfilling all requirements under the National Historic Preservation Act (NHPA), the Fort Bragg Integrated Cultural Resource Management Plan (ICRMP) and Army Regulation (AR) 200-4, Cultural Resources Management.

Alternative 3. Intermediate training, additional recreation, and adaptive reuse and/or layaway of selected contributing elements within the District. Under this alternative, the level of activity on the Overhills would be increased to accommodate battalion-sized units (approximately 1,000 personnel), plus support personnel. Training would occur in accordance with the IRR. There are 40 battalions at Fort Bragg. Battalion-size field exercises typically use 75 or fewer vehicles per exercise, including support vehicles. Each battalion holds one or two 3-day field exercises per year. Movement between NTA units I-IV and Overhills (NTA V-VIII) would be fluid with no training restrictions other than the number of personnel permitted on the Overhills. Additional recreation would consist of the youth golf and horse stables programs described for Alternative 2. Hunting and fishing would continue to be permitted, as discussed in Alternative 1. This alternative would treat the District as discussed under Alternative 2.

Alternative 4. (Preferred Alternative)—Maximum training, existing recreation, and no preservation of the District. Under this alternative, the level of training would be increased to accommodate brigade-sized units (up to approximately 5,000 personnel); the Overhills would be fully incorporated into the installation's training program, and used in the same manner as the other training areas on Fort Bragg. Units up to, and including brigade size, would train in accordance with the IRR. Hunting and fishing would continue as discussed under Alternative 1. No additional recreational use of the Overhills would occur under maximum training due to the need for maneuver frontage and flexibility.

After mitigating for the loss of historical integrity by fulfillment of all legal requirements under the NHPA, the Fort Bragg ICRMP, and AR 200-4, the 56 contributing elements would be integrated into the training program. All contributing and non-contributing elements as well as standing structures determined not eligible for the NRHP would be evaluated for use in training exercises. The buildings that could be incorporated into the training program would remain; the non-essential buildings and structures would be demolished.

The Overhills FEIS provides an analysis of both the beneficial and adverse environmental impacts of the different use alternatives for the Overhills, and analyzes quantitatively and qualitatively the potential environmental impacts of the proposed alternatives. The resource areas discussed and evaluated are: Soils, surface waters, groundwater, wetlands, vegetation, wildlife, protected species, hazardous materials/waste management, solid waste management, air quality, noise, safety, land use, demographics and economy, recreation, archaeological resources, and the historic district. The FEIS indicates that Alternative 1 (No Action) has the fewest potential impacts because no new training types would be added, and all of the historic buildings and structures would be preserved. Alternatives 2, 3 and 4 would have some potential adverse impacts to several of the analyzed resources; however, mitigations to reduce those impacts are identified in the FEIS.

Minimal comments were received during the 45-day DEIS comment period and changes made to the document were exclusively clarifications and minor factual changes. Therefore, in accordance with 32 CFR 651.45(h), only the DEIS comments, responses to the comments and the errata sheet are being circulated. Copies of the comments, responses and the errata sheet are available for review at major libraries in the study area. A copy of the DEIS, comments and responses, and the errata sheet may be viewed at: http://www.bragg.army.mil/envbr/nepa_review.htm.

Thomas M. Jordan,
Brigadier General, USA, Assistant Deputy Chief of Staff, G-3/5/7 (Readiness), U.S. Army Forces Command.

[FR Doc. 06-100 Filed 1-5-06; 8:45 am]

BILLING CODE 3710-08-M